DEPARTMENT OF ENERGY

Federal Energy Regulatory Commission

Combined Notice of Filings #1

Take notice that the Commission received the following electric corporate filings:

Docket Numbers: EC12-134-000.

Applicants: NRG Energy, Inc, GenOn Energy, Inc.

Description: NRG Energy, Inc et al. submits additional information in support of the application pursuant to Section 203(a)(1) et al.

Filed Date: 9/10/12.

Accession Number: 20120911-0249.

Comments Due: 5 p.m. ET 10/9/12.

Take notice that the Commission received the following exempt wholesale generator filings:

Docket Numbers: EG12-108-000.

Applicants: Prairie Rose Wind, LLC.

Description: Notice of Self-certification of Exempt Wholesale Generator Status of Prairie Rose Wind, LLC.

Filed Date: 9/11/12.

Accession Number: 20120911-5102.

Comments Due: 5 p.m. ET 10/2/12.

Docket Numbers: EG12-109-000.

Applicants: Prairie Rose Transmission, LLC.

Description: Notice of Self-certification of Exempt Wholesale Generator Status of Prairie Rose Transmission, LLC.

Filed Date: 9/11/12.

Accession Number: 20120911-5103.

Comments Due: 5 p.m. ET 10/2/12.

Take notice that the Commission received the following electric rate filings:

Docket Numbers: ER12-2606-002.

Applicants: PJM Interconnection, L.L.C.

Description: Compliance Filing per 7/11/2012 Order in EL12-50-000 (sections eff 10/1/2012) to be effective 10/1/2012.

Filed Date: 9/10/12.

Accession Number: 20120910-5160.

Comments Due: 5 p.m. ET 10/1/12.

Docket Numbers: ER12-2611-000.

Applicants: NorthWestern Corporation.

Description: SA 646—SGIA with NPS re Mammoth Project to be effective 9/12/2012.

Filed Date: 9/11/12.

Accession Number: 20120911-5080.

Comments Due: 5 p.m. ET 10/2/12.

Docket Numbers: ER12-2612-000.

Applicants: Nevada Power Company.

Description: Rate Schedule No. 130 Concurrence in TEP RS No. 321 SRSG Participation Agreement to be effective 12/28/2011.

Filed Date: 9/11/12.

Accession Number: 20120911-5088.

Comments Due: 5 p.m. ET 10/2/12.

Docket Numbers: ER12-2613-000.

Applicants: Southern California Edison Company.

Description: Amended SGIA and DSA to 570 E. Mill St San Bernardino Roof Top Solar Project to be effective 9/13/2012.

Filed Date: 9/12/12.

Accession Number: 20120912-5001.

Comments Due: 5 p.m. ET 10/3/12.

Docket Numbers: ER12-2614-000.

Applicants: Dynamo Power LLC.

Description: Market-Based Rates Tariff to be effective 9/12/2012.

Filed Date: 9/12/12.

Accession Number: 20120912-5002.

Comments Due: 5 p.m. ET 10/3/12.

Take notice that the Commission received the following electric securities filings:

Docket Numbers: ES12-55-000.

Applicants: Kansas City Power & Light Company.

Description: Kansas City Power & Light Company Application for Authorization of Issuance of Short-Term Debt Securities Under Section 204 of the Federal Power Act.

Filed Date: 9/12/12.

Accession Number: 20120912-5012.

Comments Due: 5 p.m. ET 10/3/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2012.
Nathaniel J. Davis, Sr.,
Deputy Secretary.

[FR Doc. 2012-23045 Filed 9-18-12; 8:45 am]

BILLING CODE 6717-01-P